INTERNATIONAL TRADE COMMISSION

[Investigation No. 337-TA-560]

In the Matter of Certain Nor and Nand Flash Memory Devices and Products Containing the Same; Notice of Commission Decision Not To Review the Initial Determination of No Violation of Section 337 and Recommended Determination on Remedy and Bond; Termination of Investigation

AGENCY: U.S. International Trade Commission.

ACTION: Notice.

SUMMARY: Notice is hereby given that the U.S. International Trade Commission has determined not to review a final initial determination (“ID”) issued by the presiding administrative law judge (“ALJ”) regarding whether there is a violation of section 337 of the Tariff Act of 1930 in the above-captioned investigation.

FOR FURTHER INFORMATION CONTACT: Paul M. Bartkowski, Esq., Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on February 13, 2006, based on a complaint filed by SanDisk Corporation of Sunnyvale, California. The complaint alleges violations of section 337 of the Tariff Act of 1930 (19 U.S.C. 1337) in the importation into the United States, the sale for importation, and the sale within the United States after importation of certain NOR and NAND flash memory devices and products containing same by reason of infringement of various claims of United States Patent Nos. 5,172,338 (“the ’338 patent”); 5,991,517 (“the ’517 patent”); and 6,542,956 (“the ’956 patent”). The complaint named two respondents: STMicroelectronics N.V. of Geneva, Switzerland and STMicroelectronics, Inc. of Carrollton, Texas (collectively, “ST”).

On May 17, 2006, the ALJ granted, by an ID issued June 1, 2006, SanDisk's motion for partial termination of the investigation with respect to the ’956 patent. The Commission issued a notice that it determined not to review the ID on June 19, 2006.

On June 1, 2007, the ALJ issued the final ID finding no violation of Section 337 in the importation into the United States, the sale for importation or the sale within the United States after importation, of certain NOR and NAND flash memory devices and products containing the same in connection with the asserted claims of the ’517 and ’338 patents. No petitions for review of the ID were filed. The Commission has determined not to review the ID.

The authority for the Commission's determination is contained in section 337 of the Tariff Act of 1930, as amended (19 U.S.C. 1337), and in § 210.42 of the Commission's Rules of Practice and Procedure (19 CFR 210.42).

By order of the Commission.
Issued: July 13, 2007.
Marilyn R. Abbott,
Secretary to the Commission.

[FR Doc. E7-13893 Filed 7-17-07; 8:45 am]

BILLING CODE 7020-02-P